DEPARTMENT OF COMMERCE

National Oceanic and Atmospheric Administration

RIN 0648-XF592

Marine Mammals; File No. 21158

AGENCY: National Marine Fisheries Service (NMFS), National Oceanic and Atmospheric Administration (NOAA), Commerce.

ACTION: Notice; receipt of application.

SUMMARY: Notice is hereby given that Robert Garrott, Ph.D., Montana State University, 310 Lewis Hall, Bozeman, MT 59717, has applied in due form for a permit to conduct research on Weddell seals (Leptoncychotes weddellii).

DATES: Written, telefaxed, or email comments must be received on or before September 11, 2017.

ADDRESSES: The application and related documents are available for review by selecting “Records Open for Public Comment” from the “Features” box on the Applications and Permits for Protected Species (APPS) home page, https://apps.nmfs.noaa.gov, and then selecting File No. 21158 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to continue long-term studies of the Erebus Bay, Antarctica, Weddell seal population to evaluate how temporal variation in the marine environment affects individual life histories and the population dynamics of long-lived mammal. Research involves the annual capture of up to 675 Weddell seal pups at 1-4 days after birth, flipper tagging, and release. A maximum of 150 of these pups would also receive a temperature recording flipper tag, be physically weighed, and have a skin biopsy taken for genetics when initially tagged. These pups would be re-captured again at 20 days of age to be weighed, and again at weaning for weighing and to remove the temperature tags. The applicant also proposes to capture up to 285 adults Weddell seals using the head-bagging technique to flipper tag previously untagged seals or replace lost or damaged tags of previously tagged individuals. An additional 100 previously tagged adult Weddell seals would be captured to obtain a skin biopsy for genetics. Up to 75 adult female Weddell seals would be photographed on the 3 occasions when their pup is weighed to obtained an estimate of the mother's mass through photogrammetry. An additional 15 females would be physically weighed when their pups were initially tagged and weighed. The applicant proposes to conduct up to eight mark-resight surveys, approaching animals to read their flipper tags. The applicant also requests incidental take of crabeater seals (Lobodon carcinophagus) and leopard seals (Hydrurga leptonyx) that may be unintentionally harassed. This permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 8, 2017.
Julia Harrison,
Chief, Permits and Conservation Division, Office of Protected Resources, National Marine Fisheries Service.

[FR Doc. 2017-16985 Filed 8-10-17; 8:45 am]

BILLING CODE 3510-22-P